DEPARTMENT OF COMMERCE

Foreign-Trade Zones Board

[B-33-2013]

Foreign-Trade Zone 75—Phoenix, Arizona, Authorization of Production Activity, Orbital Sciences Corporation, (Satellites and Spacecraft Launch Vehicles); Gilbert, Arizona

On April 2, 2013, the City of Phoenix, grantee of FTZ 75, submitted a notification of proposed production activity to the Foreign-Trade Zones (FTZ) Board on behalf of Orbital Sciences Corporation, within Site 10, in Gilbert, Arizona.

The notification was processed in accordance with the regulations of the FTZ Board (15 CFR part 400), including notice in the Federal Register inviting public comment (79 FR 24158, February 24, 2013). The FTZ Board has determined that no further review of the activity is warranted at this time. The production activity described in the notification is authorized, subject to the FTZ Act and the Board's regulations, including Section 400.14, and further subject to a restriction requiring that all foreign inputs included in textile categories (classified within HTSUS 5601.21 and 5607.50) used in the production activity must be admitted to the zone in privileged foreign status (19 CFR 146.41) or domestic (duty-paid) status (19 CFR 146.43).

Dated: August 2, 2013.
Andrew McGilvray,
Executive Secretary.

[FR Doc. 2013-19241 Filed 8-7-13; 8:45 am]

BILLING CODE 3510-DS-P